NUCLEAR REGULATORY COMMISSION

[Docket No. 70-27]

Notice of Availability of Environmental Assessment and Finding of No Significant Impact for License Renewal for BWX Technologies, Inc., Lynchburg, VA

AGENCY: Nuclear Regulatory Commission.

ACTION: Notice of availability.

FOR FURTHER INFORMATION CONTACT: Billy Gleaves, Project Manager, Fuel Cycle Facilities Branch, Division of Fuel Cycle Safety and Safeguards, Office of Nuclear Material Safety and Safeguards, U.S. Nuclear Regulatory Commission, Mail Stop T-8F42, Washington, DC, 20852. Telephone: (301) 415-5848; fax number: (310) 415-5955; e-mail: bcg@nrc.gov.

SUPPLEMENTARY INFORMATION:

I. Introduction

The Nuclear Regulatory Commission (NRC) is considering renewal of a license to BWX Technologies, Inc. (BWXT), Materials License SNM-42, that would authorize the licensee to possess nuclear materials, manufacture nuclear fuel components, fabricate research and university reactor components, fabricate compact reactor fuel elements, perform research on spent fuel performance, and handle the resultant waste streams, including recovery of scrap uranium. If granted, the renewed license would allow BWXT to continue operations as authorized in the current license. If approved, the renewed license term would be for 20 years at BWXT's Mt. Athos Road facility in Lynchburg, Virginia. The NRC has prepared an Environmental Assessment (EA) in support of this action in accordance with the requirements of 10 CFR Part 51. Based on the EA, the NRC has concluded that a Finding of No Significant Impact is appropriate. If approved, the renewed license would be issued following the publication of this Notice.

II. EA Summary

The purpose of the proposed action is to authorize the renewal of BWXT's 10 CFR part 70 Special Nuclear Material license, for a 20-year period, at the licensee's Lynchburg, Virginia facility. On June 30, 2004, BWXT requested that the NRC approve the renewal application. BWXT's request for the proposed change was previously noticed in the Federal Register on March 6, 2006 (71 FR 11231), with a notice of license amendment request and opportunity to request a hearing.

The staff has prepared the EA in support of the proposed action. The NRC staff concluded that the proposed renewal, for a 20-year period, of Materials License SNM-42 involving the continued operations at the BWXT site in Lynchburg will not result in a significant impact to the environment. The NRC staff concluded that the proposed action will not adversely affect federally listed species or federally designated critical habitat because no federally listed species are known to occur in the project area. The NRC staff found that no historic properties will be affected by the proposed action. The facility is already built, and no changes to the operations are associated with the action. The proposed action can be viewed as a continuation of impacts and can be evaluated based on the previous impacts from past operations.

Airborne effluents released through stacks and liquid effluents released in the James River are below regulatory limits for nonradiological and radiological contaminants. The radiological dose associated with the exposure to these effluents, for the maximally exposed individual is less than 1 percent of the NRC's 1.0 mSv [100 mrem] annual limit pursuant to 10 CFR 20.1301. Occupational doses are also well below regulatory limits.

The environmental impacts of the proposed action have been evaluated in accordance with the requirements presented in 10 CFR part 51. The NRC staff has determined that the renewal of license SNM-42, allowing continued operations at the BWXT facility for a 20-year period will not have a significant impact on the human environment. No environmental impact statement is required, and a finding of no significant impact is appropriate in accordance with 10 CFR 51.31.

III. Finding of No Significant Impact

On the basis of the EA, the NRC has concluded that there are no significant environmental impacts from the proposed action and has determined not to prepare an environmental impact statement.

IV. Further Information

Documents related to this action can be accessed on the NRC's Agencywide Document Access and Management System (ADAMS) that provides electronic copies of NRC's public documents. The ADAMS accession number for the Federal Register notice related to this action is: Notice of License Amendment Request of BWX Technologies, Inc., Lynchburg, VA, and Opportunity to Request a Hearing (ML053430248). If you do not have access to ADAMS or if there are problems in accessing the documents located in ADAMS, contact the NRC's Public Document Room (PDR) Reference staff at 800-397-4209, 301-415-4737, or by e-mail to pdr@nrc.gov.

Dated at Rockville, Maryland, this 24th day of March 2006.
For the Nuclear Regulatory Commission.
Gary S. Janosko,
Chief, Fuel Cycle Facilities Branch, Division of Fuel Cycle Safety and Safeguards, Office of Nuclear Material Safety and Safeguards.

[FR Doc. E6-4710 Filed 3-30-06; 8:45 am]

BILLING CODE 7590-01-P